DEPARTMENT OF TRANSPORTATION

Federal Aviation Administration

Notice of Intent To Prepare an Environmental Impact Statement (EIS) for a Replacement Airport Near Hailey, ID

AGENCY: Federal Aviation Administration (FAA), DOT.

ACTION: Notice of intent to prepare an Environmental Impact Statement and request for scoping comments.

SUMMARY: The FAA is issuing this Notice of Intent to the public an EIS under the provisions of the National Environmental Policy Act (NEPA) of 1969, as amended, will be prepared to consider the siting and construction of a replacement airport for the Friedman Memorial Airport (SUN), Hailey, Idaho. The Bureau of Land Management (BLM) is involved in the project as alternative sites may occur on BLM land. The BLM has not entered into a cooperating or co-lead agreement at this time.

The Friedman Memorial Airport Authority, the sponsor of the project, has proposed to construct and operate a replacement airport for the Friedman Memorial Airport within Blaine County, Idaho.

Friedman Memorial Airport is located in Hailey, Idaho and serves the Wood River region of South Central Idaho. The airport currently does not and cannot comply with FAA airfield design standards on the limited land owned by the airport. Further, the airport is close to numerous residences. Mountainous terrain on the east, west, and north sides of SUN precludes instrument approach procedures which would make SUN accessible in poor weather.

All alternatives at the existing airport site are extremely costly and extend into residential areas. Further, they provide no benefit to reliability and safe operation in either good or adverse weather. Considering the limitations of the existing airport, elected and appointed officials in Blaine County, Idaho have decided to evaluate the environmental impacts of building and operating an airport meeting FAA design standards and supporting an instrument approach. Several alternatives, as well as the no-action alternative will be evaluated.

The EIS will determine all environmental impacts, such as and not limited to, noise impacts, impacts on air and water quality, wetlands, fish, wildlife, and plants, farmlands, floodplains, historic/tribal resources, hazardous wastes, socioeconomics, and economic factors.

FOR FURTHER INFORMATION CONTACT: Ms. Cayla Morgan, Federal Aviation Administration, Seattle Airports District Office, 1601 Lind Avenue, SW., Suite 250, Renton, Washington, 98057-3356, (425) 227-2653.

SUPPLEMENTARY INFORMATION: The purpose of this notice is to inform federal, state, and local government agencies, and the public of the intent to prepare an EIS and to conduct a public and agency scoping process. Information, data, opinions, and comments obtained throughout the scoping process will be considered in preparing the draft EIS.

The scoping process for this EIS will include a comment period for interested agencies and parties to submit oral and/or written comments representing the concerns and issues they believe should be addressed. Please submit any written comments to Cayla Morgan no later than January 15, 2008.

Public Scoping Meetings: To ensure that the full range of issues related to the proposed action is addressed and that all significant issues are identified, comments and suggestions are invited from all interested parties. Public and agency scoping meetings will be conducted to identify any significant issues associated with the proposed action.

An agency scoping meeting for all Federal, State, and local regulatory agencies which have jurisdiction by law or have special expertise with respect to any potential environmental impacts associated with the proposed action will be held on December 4, 2007. This meeting will take place at 1 p.m. at the Community Campus, Fox Acres Road, Hailey, Idaho. A notification letter will be sent in advance of the meeting.

Two public scoping meetings for the general public will be held. The first meeting will be held from 6 p.m. to 8 p.m. on December 3, 2007. The second meeting will be held from 10 a.m. to 12 p.m. December 4, 2007. The meetings will be conducted at the Community Campus, Fox Acres Road, Hailey, Idaho. Each meeting will include an overview of the project, an informal open house period, and a question and answer session. To notify the general public of the scoping process, a legal notice will be placed in newspapers having general circulation in the study area. The newspaper notice will notify the public that scoping meetings will be held to gain their input concerning the proposed action, alternatives to be considered, and impacts to be evaluated.

The FAA is aware that there are Native American tribes with a historical interest in the area. The FAA will interact on a government-to-government basis, in accordance with all executive orders, laws, regulations, and other memoranda. The tribes will also be invited to participate in accordance with NEPA and Section 106 of the National Historic Preservation Act.

Further information about the EIS and the proposed action will be posted when available at the following Web site: http://www.airportsites.net/SUN-EIS.

Issued in Renton, Washington, October 22, 2007.
Donna P. Taylor,
Manager, Airports Division, Northwest Mountain Region.

[FR Doc. 07-5424 Filed 10-31-07; 8:45 am]

BILLING CODE 4910-13-M